DEPARTMENT OF ENERGY

Federal Energy Regulatory Commission

Combined Notice of Filings #1

Take notice that the Commission received the following electric rate filings:

Docket Numbers: ER16-1033-001.

Applicants: Windrose Power and Gas LLC.

Description: Tariff Amendment: Market Based Rate Tariff to be effective 5/5/2016.

Filed Date: 4/21/16.

Accession Number: 20160421-5055.

Comments Due: 5 p.m. ET 5/12/16.

Docket Numbers: ER16-1476-000.

Applicants: Southern California Edison Company.

Description: § 205(d) Rate Filing: 2016 Revised Added Facilities Rate under TO—Filing No. 1 to be effective 1/1/2016.

Filed Date: 4/21/16.

Accession Number: 20160421-5001.

Comments Due: 5 p.m. ET 5/12/16.

Docket Numbers: ER16-1477-000.

Applicants: NSTAR Electric Company.

Description: Notice of Termination of NSTAR Electric Company of 1993 Interconnection Agreement Rate Schedule No. 176.

Filed Date: 4/20/16.

Accession Number: 20160420-5171.

Comments Due: 5 p.m. ET 5/11/16.

Docket Numbers: ER16-1479-000.

Applicants: Kentucky Utilities Company.

Description: § 205(d) Rate Filing: Brown Solar Depreciation Rates to be effective 12/31/9998.

Filed Date: 4/21/16.

Accession Number: 20160421-5027.

Comments Due: 5 p.m. ET 5/12/16.

Docket Numbers: ER16-1480-000.

Applicants: Midcontinent Independent System Operator, Inc.

Description: § 205(d) Rate Filing: 2016-04-21_SA 6507 White Pine 1 SSR Renewal to be effective 4/16/2016.

Filed Date: 4/21/16.

Accession Number: 20160421-5038.

Comments Due: 5 p.m. ET 5/12/16.

Docket Numbers: ER16-1481-000.

Applicants: Midcontinent Independent System Operator, Inc.

Description: § 205(d) Rate Filing: 2016-04-21_Schedule 43H Renewal White Pine 1 SSR to be effective 4/16/2016.

Filed Date: 4/21/16.

Accession Number: 20160421-5041.

Comments Due: 5 p.m. ET 5/12/16.

Take notice that the Commission received the following PURPA 210(m)(3) filings:

Docket Numbers: QM16-2-000.

Applicants: Ameren Illinois Company, Union Electric Company.

Description: Application of Ameren Illinois Company and Union Electric Company to Terminate Mandatory Purchase Obligation Under the Public Utility Regulatory Policies Act.

Filed Date: 4/20/16.

Accession Number: 20160420-5193.

Comments Due: 5 p.m. ET 5/18/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 21, 2016.
Nathaniel J. Davis, Sr.,
Deputy Secretary.

[FR Doc. 2016-09822 Filed 4-26-16; 8:45 am]

BILLING CODE 6717-01-P